NATIONAL SCIENCE FOUNDATION

Sunshine Act Meeting; National Science Board

The National Science Board (NSB), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Closed teleconference of the Committee on Oversight (CO) of the National Science Board, to be held Monday, August 17, 2020 at 3:00-4:00 p.m. EDT.

PLACE: This meeting will be held by videoconference organized through the National Science Foundation.

STATUS: Closed.

MATTERS TO BE CONSIDERED: Committee Chair's opening remarks, discussion of the Office of the Inspector General's FY 2022 OMB Budget Submission, and recommendation to the Committee on Strategy.

CONTACT PERSON FOR MORE INFORMATION: Point of contact for this meeting is: Chris Blair, (703) 292-7000, cblair@ns.gov. You may find meeting information and updates (time, place, subject matter or status of meeting) at https://www.nsf.gov/nsb/meetings/notices.jsp#sunshine.

Chris Blair,
Executive Assistant to the National Science Board Office.

[FR Doc. 2020-17881 Filed 8-12-20; 11:15 am]

BILLING CODE 7555-01-P